NUCLEAR REGULATORY COMMISSION

[Docket No. 50-18; NRC-2024-0092]

NorthStar Vallecitos, LLC; Vallecitos Boiling Water Reactor; License Termination; Exemption

AGENCY: Nuclear Regulatory Commission.

ACTION: Notice; issuance.

SUMMARY: The U.S. Nuclear Regulatory Commission (NRC) is noticing the termination of the Vallecitos Boiling Water Reactor (VBWR) Facility Operating License, No. DPR-1, located near Sunol, California. The VBWR is co-located at the site with the Empire State Atomic Development Associates (ESADA) Vallecitos Experimental Superheat Reactor (EVESR), license No. DR-10. Due to the shared siting of the facilities, the termination of the VBWR license includes an exemption from the requirement to meet certain dose criteria at the site as all remaining residual radioactivity has been transferred to the co-located EVESR license, and will be evaluated when that license is terminated.

DATES: The license termination for DPR-1 and the associated exemption were issued on August 27, 2025.

ADDRESSES: Please refer to Docket ID NRC-2024-0092 when contacting the NRC about the availability of information regarding this document. You may obtain publicly available information related to this document using any of the following methods:

• Federal rulemaking website: Go to https://www.regulations.gov and search for: Docket ID NRC-2024-0092. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Public ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Chris Allen, Office of Nuclear Material Safety and Safeguards, U.S. Nuclear Regulatory Commission, Washington, DC 20555-0001; telephone: 301-415-6877; email: William.Allen@nrc.gov.

SUPPLEMENTARY INFORMATION:

I. Background

The VBWR is a boiling water reactor located at the Vallecitos Nuclear Center (VNC), in Sunol, California and is licensed as a power reactor under part 50 of title 10 of the Code of Federal Regulations (10 CFR), “Domestic Licensing of Production and Utilization Facilities.” The VBWR is co-located with the Empire State Atomic Development Associates Vallecitos Experimental Superheat Reactor (EVESR), license No. DR-10, in the “300 Area.” The “300 Area” is an approximate 3.2-acre area within the larger VNC site.

The General Electric Company (GE) was issued a license by the Atomic Energy Commission (AEC) to construct and operate the VBWR on May 14, 1956. Developmental Power Reactor (DPR) license number 1 (DPR-1) was issued to GE on August 31, 1957, and full power was attained on October 19, 1957. The VBWR ceased operations on December 9, 1963, and was defueled on December 24 that same year. GE was issued a license to possess but not operate the VBWR reactor on September 9, 1965. The AEC issued GE an order to dismantle the VBWR on July 25, 1966, however, major dismantlement activities at the VBWR did not occur until the years 2007-2008 with the removal of most of the contaminated equipment and components. The reactor vessel, the last remaining component of the VBWR reactor, was removed from the VBWR reactor building and shipped offsite for disposal as described in the letter from GE Hitachi Nuclear Energy Americas, LLC (GEH) to NRC dated March 25, 2024.

On September 7, 2023, as supplemented by letters dated September 15, 2023, October 31, 2023, and March 25, 2024, GEH submitted a license amendment request (LAR) to the NRC to approve a License Termination Plan (LTP) to support termination of NRC license DPR-1. The LTP detailed efforts to identify and characterize the residual radioactivity associated with the VBWR reactor building. The LTP also explained that final decontamination of the VBWR facility would be accomplished after control of the remaining VBWR structures and components had been transferred to the control of the EVESR license. The NRC requested public comments on VBWR's LTP and held a public meeting to discuss the LTP. There were no public comments received on the LTP. The NRC also published an Environmental Assessment and Finding of No Significant Impact on the LTP. On November 27, 2024, the NRC approved the VBWR LTP.

By order dated April 25, 2024, the NRC approved the direct transfer of ownership of the VNC, including all NRC licensed facilities, from GEH to NorthStar Vallecitos, LLC (NSV). On March 12, 2025, the NRC was notified that the sale of the VNC facilities from GEH to NorthStar Vallecitos would be completed on March 14, 2025. Subsequently, on March 14, 2025, the NRC issued License No. DPR-1 to NSV.

II. Request/Action

By letter dated February 3, 2025, NSV applied to the NRC to terminate the NRC license for the VBWR. In accordance with 10 CFR 50.12, NSV also requested an exemption from the 10 CFR 50.82(a)(11)(ii) requirements that the VBWR final radiation survey and associated documentation demonstrate that the facility meets the criteria for license termination in 10 CFR part 20, subpart E. NSV requested the exemption because the remaining VBWR facility and residual radioactivity have been transferred to the EVESR license, which is a co-located facility, and thus, the part 20, subpart E criteria will have to be met when the EVESR facility decommissions. The VBWR license termination is being sought to ensure compliance with the requirement in 10 CFR 50.82(a)(3) for power reactors to terminate their licenses within 60 years of the permanent cessation of operations.

III. Discussion

Pursuant to 10 CFR 50.12(a)(1), the Commission may, upon application by any interested person or upon its own initiative, grant exemptions from the requirements of 10 CFR part 50 when the exemptions are authorized by law, will not present an undue risk to public health or safety, and are consistent with the common defense and security. However, the Commission will not consider granting an exemption unless special circumstances are present. Special circumstances are described in 10 CFR 50.12(a)(2).

A. Authorized by Law

As stated earlier in this notice, 10 CFR 50.12 allows the NRC to grant exemptions from 10 CFR part 50 requirements if it makes certain findings. As further discussed later in this notice, the NRC staff has determined that special circumstances exist to grant the exemption. In addition, granting the licensee's proposed exemption will not result in a violation of the Atomic Energy Act of 1954, as amended; other laws, or the Commission's regulations. Therefore, the granting of the exemption request is authorized by law.

B. No Undue Risk to Public Health and Safety

NSV identified three factors that demonstrate the requested exemption does not result in an undue risk to public health and safety: (1) the exemption does not create a new accident precursor or result in an increase in the probability of any postulated accident, an increase in the consequences of postulated accidents, (2) result in any change to the types or amounts of effluents that may be released offsite or be allowed to remain on site, or (3) result in an increase of cumulative occupational or public doses for the site. Because the VBWR structures and residual radioactivity have been transferred under the EVESR license held by NSV, full decommissioning of the VBWR will occur with the final decommissioning of the co-located EVESR which is planned for April 2030 in accordance with the requirements of 10 CFR 50.82(a)(11)(ii). Because there is no facility, radioactive components, or residual radioactivity remaining on the VBWR license, the NRC staff concludes that the requested exemption does not (1) create a new accident precursor or increase the probability or consequence of postulated accidents, (2) change the type or amount of effluents released or allowed to remain on site, or (3) result in an increase of cumulative occupational or public dose. As a result, NRC determined that granting the exemption poses no undue risk to public health and safety.

C. Consistent With the Common Defense and Security

NSV stated that the common defense and security is not impacted by the requested exemption because it does not alter the scope or implementation of the NorthStar Vallecitos Physical Security Plan and does not affect any other requirements related to the security of the facility. The exemption requested relief from providing final radiation surveys and associated documentation demonstrating that the VBWR facility meets the criteria for license termination in 10 CFR part 20, subpart E as required by 10 CFR 50.82(a)(11)(ii). Since 10 CFR part 20, subpart E identifies criteria for public safety, granting the exemption request does not impact the common defense and security.

D. Special Circumstances

Paragraph 50.12(a)(2) of 10 CFR states, in part:

The Commission will not consider granting an exemption unless special circumstances are present. Special circumstances are present whenever- . . . (ii) Application of the regulation in the particular circumstances would not serve the underlying purpose of the rule or is not necessary to achieve the underlying purpose of the rule;

The purpose of the final radiation survey and associated documentation, including an assessment of dose contributions associated with parts released for use before approval of the license termination plan, submitted pursuant to 10 CFR 50.82(a)(11)(ii), is to protect the public health and safety by demonstrating that the facility and site have met the criteria for decommissioning in 10 CFR part 20, subpart E. With approval of the EVESR amendment, the remaining VBWR reactor building, and any associated residual radioactivity, have been transferred to the authority of the EVESR license. Because of this, NSV must submit a final status survey and associated documentation as part of the EVESR license termination that demonstrates compliance with the 10 CFR 50.82(a)(11) requirements for release of the 300 Area which includes both the EVESR and the remaining transferred VBWR facilities. As such, compliance with 10 CFR 50.82(a)(11)(ii) is not necessary to satisfy the underlying purpose of the rule because there are no remaining facilities or components on the VBWR license. Accordingly, the NRC finds that special circumstances are present and grants the exemption request pursuant to 10 CFR 50.12(a)(2)(iii).

E. Environmental Considerations

Pursuant to 10 CFR 51.22(c)(25), the granting of an exemption from the requirements of any regulation in Chapter I of 10 CFR meets the eligibility criteria for categorical exclusion provided that (1) there is no significant hazards consideration, (2) there is no significant change in the types or significant increase in the amounts of any effluents that may be released offsite, (3) there is no significant increase in individual or cumulative public or occupational radiation exposure, (4) there is no significant construction impact, (5) there is no significant increase in the potential for or consequences from radiological accidents, and (6) the requirements from which an exemption is sought are among those identified in 10 CFR 51.22(c)(25)(vi). NSV asserted that the exemption sought relief from scheduling requirements which is category G under 10 CFR 51.22(c)(25)(vi). As discussed in section 5.1 of the SER, the NRC concluded that the exemption request satisfies the categorical exclusion criteria in 10 CFR 51.22(c)(25).

IV. Availability of Documents

The documents identified in the following table are available to interested persons through one or more of the following methods, as indicated.

Document Description | ADAMS Accession No./ Federal Register citation
GEH/NorthStar Response to NRC Request for Additional Information Regarding the License Termination Plan for VBWR, dated March 25, 2024 | ML24085A792.
GE-Hitachi Nuclear Energy Americas, LLC, License Termination Plan for the Vallecitos Boiling Water Reactor License DPR-1, dated September 7, 2023 | ML23250A266 (Package).
GE-Hitachi Nuclear Energy Americas, LLC, License Termination Plan for the Vallecitos Boiling Water Reactor License DPR-1, dated September 15, 2023 | ML23261A591 (Package).
GEH Vallecitos Nuclear Center, Email: Response to acceptance Review of the VBWR License Termination Plan, dated October 31, 2023 | ML23304A300.
GE Hitachi Nuclear Energy/NorthStar Vallecitos, LLC.; Vallecitos Boiling Water Reactor; License Termination Plan, date published May 15, 2024 | 89 FR 42510.
General Electric Hitachi VBWR License Termination Plan Environmental Assessment FONSI, dated October 10, 2024 | ML24263A192.
Vallecitos Boiling Water Reactor License Termination Plan Amendment, dated November 27, 2024 | ML24348A094 (Package).
Order Approving Transfer of the Vallecitos Nuclear Center Licenses and Conforming License Amendments, dated April 25, 2024 | ML24039A011 (Package).
Notification of Planned Closing, Trust Fund Balance at Transfer and Proof of Insurance, dated March 12, 2025 | ML25071A080.
Application to Terminate License for the Vallecitos Boiling Water Reactor, dated February 3, 2025 | ML25034A275.
Issuance of Amendment to EVESR License to Accept VBWR In-Situ Radioactive Material, dated August 19, 2025 | ML25199A084 (Package).

Dated: August 29, 2025.
For the Nuclear Regulatory Commission.
Jane Marshall,
Division Director, Division of Decommissioning, Uranium Recovery and Waste Programs, Office of Nuclear Material Safety and Safeguards.

[FR Doc. 2025-16873 Filed 9-2-25; 8:45 am]

BILLING CODE 7590-01-P